DEPARTMENT OF AGRICULTURE

Forest Service

Notice of Availability of an Environmental Assessment; Ashley, Dixie, Fishlake, Manti-La Sal, Uinta, and Wasatch-Cache National Forest's; Utah Counties: Beaver, Box Elder, Cache, Carbon, Daggett, Davis, Duchesne, Emery, Garfield, Grand, Iron, Juab, Kane, Millard, Morgan, Piute, Rich, Salt Lake, San Juan, Sanpete, Sevier, Summit, Tooele, Uintah, Utah, Wasatch, Washington, Wayne, and Weber; Wyoming Counties: Sweetwater and Uinta; Colorado Counties: Mesa and Montrose

AGENCY: USDA Forest Service.

ACTION: Notice of availability of an environmental assessment.

SUMMARY: The Utah Fire Amendment Project was initiated October 13, 1998 with the published public notification of proposed Forest Plan amendments in the newspaper of general circulation for each National Forest. The responsible officials are the Forest Supervisors for the Ashley, Dixie, Fishlake, Manti-La Sal, Uinta, and Wasatch-Cache National Forest's. In accordance with planning regulations issued November 9, 2000 at 36 CFR § 219.35 the responsible official's have decided to proceed under the 1982 regulations in effect prior to November 9, 2000. In addition, the responsible official's have decided to proceed under the administrative appeal and review procedures of 36 CFR § 217 in effect prior to November 9, 2000.

DATES: Effective as of May 2, 2001.

FOR FURTHER INFORMATION CONTACT: David Hatfield, Manti-La Sal National Forest, 599 West Price River Drive, Price, UT 84501, (435) 637-2817.

Dated: April 19, 2001.
Pam Gardiner,
Forest Supervisor, Wasatch-Cache National Forest.

[FR Doc. 01-10875 Filed 5-1-01; 8:45 am]

BILLING CODE 3410-11-M